DEPARTMENT OF HEALTH AND HUMAN SERVICES

Sixth Amendment to Declaration Under the Public Readiness and Emergency Preparedness Act for Medical Countermeasures Against COVID-19

AGENCY: Office of the Secretary, Department of Health and Human Services.

ACTION: Notice, correction.

SUMMARY: This document corrects one technical error that appeared in the final notice published in the Federal Register on February 2, 2021 entitled “Fifth Amendment to Declaration Under the Public Readiness and Emergency Preparedness Act for Medical Countermeasures Against COVID-19” and two technical errors that appeared in the final notice published in the Federal Register on Tuesday, February 16, 2021, entitled “Sixth Amendment to Declaration Under the Public Readiness and Emergency Preparedness Act for Medical Countermeasures Against COVID-19.”

DATES: The correction to the final notice entitled “Fifth Amendment to Declaration Under the Public Readiness and Emergency Preparedness Act for Medical Countermeasures Against COVID-19” is effective February 2, 2021 and the corrections to the final notice entitled “Sixth Amendment to Declaration Under the Public Readiness and Emergency Preparedness Act for Medical Countermeasures Against COVID-19” are effective February 16, 2021.

FOR FURTHER INFORMATION CONTACT: L. Paige Ezernack, Office of the Assistant Secretary for Preparedness and Response, Office of the Secretary, Department of Health and Human Services, 200 Independence Avenue SW, Washington, DC 20201; 202-260-0365, paige.ezernack@hhs.gov.

Corrections

1. Correction to final notice published in the Federal Register on February 2, 2021 entitled “Fifth Amendment to Declaration Under the Public Readiness and Emergency Preparedness Act for Medical Countermeasures Against COVID-19.

Amendments to the Declaration, section 2, Effective Time Period, section XII; the sentence is corrected to read: “add to the end of the section: Liability protections for Qualified Persons under sections V(f) and V(g) of the declaration begin on February 2, 2021, and last through October 1, 2024.

2. Corrections to final notice published in the Federal Register on Tuesday, February 16, 2021, entitled “Sixth Amendment to Declaration Under the Public Readiness and Emergency Preparedness Act for Medical Countermeasures Against COVID-19.

Amendments to the Declaration, section 1, subsection V(h) is amended to read:

(h) Any member of a uniformed service (including members of the National Guard in a Title 32 duty status) (hereafter in this paragraph “service member”) or Federal government, employee, contractor, or volunteer who prescribes, administers, delivers, distributes or dispenses a Covered Countermeasure. Such Federal government service members, employees, contractors, or volunteers are qualified persons if the following requirement is met: The executive department or agency by or for which the Federal service member, employee, contractor, or volunteer is employed, contracts, or volunteers has authorized or could authorize that service member, employee, contractor, or volunteer to prescribe, administer, deliver, distribute, or dispense the Covered Countermeasure as any part of the duties or responsibilities of that service member, employee, contractor, or volunteer, even if those authorized duties or responsibilities ordinarily would not extend to members of the public or otherwise would be more limited in scope than the activities such service member, employees, contractors, or volunteers are authorized to carry out under this declaration.

Amendments to the Declaration, section 2, Effective Time Period, section XII; the sentence is corrected to read: “add to the end of the section: Liability protections for Qualified Persons under section V(h) of the declaration begin on February 16, 2021, and last through October 1, 2024.

Wilma Robinson,
Deputy Executive Secretary, U.S. Department of Health and Human Services.

[FR Doc. 2021-03526 Filed 2-19-21; 8:45 am]

BILLING CODE 4150-37-P